DEPARTMENT OF THE INTERIOR

Bureau of Indian Affairs

[234A2100DD/AAKC001030/A0A501010.999900; OMB Control Number 1035-0004]

Agency Information Collection Activities; Individual Indian Money (IIM) Instructions for Disbursement of Funds and Change of Address

AGENCY: Bureau of Indian Affairs, Interior.

ACTION: Notice of information collection; request for comment.

SUMMARY: In accordance with the Paperwork Reduction Act of 1995, we, the Bureau of Indian Affairs are proposing to renew an information collection.

DATES: Interested persons are invited to submit comments on or before October 30, 2023.

ADDRESSES: Send your comments on this information collection request (ICR) by mail to Nina Alexander, 4400 Masthead NE, Albuquerque, NM 87109; or by email to nina_alexander@btfa.gov. Please reference OMB Control Number 1035-0004 in the subject line of your comments.

FOR FURTHER INFORMATION CONTACT: To request additional information about this ICR, contact Nina Alexander by email at nina_alexander@btfa.gov, or by telephone at (505) 273-1620. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary to the proper functions of the BTFA; (2) will this information be processed and used in a timely manner; (3) is the estimate of burden accurate; (4) how might the BTFA enhance the quality, utility, and clarity of the information to be collected; and (5) how might the BTFA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: As codified in 25 U.S.C. 4001, The American Indian Trust Fund Management Reform Act of 1994 (the Reform Act) makes provisions for the Bureau of Trust Funds Administration (BTFA) (formerly known as The Office of the Special Trustee for American Indians) to administer trust fund accounts for individuals and tribes. The collection of information is required to facilitate the processing of deposits, investments, and distribution of monies held in trust by the U.S. Government and administered by the BTFA. The collection of information provides the information needed to establish procedures to: Deposit and retrieve funds from accounts, perform transactions such as cashing checks, reporting lost or stolen checks, stopping payment of checks, change of address and general verification for account activities.

Title of Collection: Individual Indian Money (IIM) Instructions for Disbursement of Funds and Change of Address, 25 CFR 115.

OMB Control Number: 1035-0004.

Form Number: OST-01-004—Trust Funds for Tribes and Individual Indians, 25 CFR part 115.

Type of Review: Extension of a currently approved collection.

Respondents/Affected Public: Individuals/households.

Total Estimated Number of Annual Respondents: 42,109.

Total Estimated Number of Annual Responses: 42,109.

Estimated Completion Time per Response: 15 minutes.

Total Estimated Number of Annual Burden Hours: 10,527 hours.

Respondent's Obligation: Required to obtain or retain a benefit.

Frequency of Collection: One time.

Total Estimated Annual Non-Hour Burden Cost: None.

An agency may not conduct or sponsor and a person is not required to respond to a collection of information unless it displays a currently valid OMB control number.

The authority for this action is the Paperwork Reduction Act of 1995 (44 U.S.C. 3501 et seq).

Jeffrey Parrillo,
Departmental Information Collection Officer.

[FR Doc. 2023-18632 Filed 8-29-23; 8:45 am]

BILLING CODE 4337-15-P